DEPARTMENT OF HOMELAND SECURITY

Coast Guard

33 CFR Part 117

[USCG-2009-0001]

Drawbridge Operation Regulations; East River, New York City, NY, Maintenance

AGENCY: Coast Guard, DHS.

ACTION: Notice of temporary deviation from regulations.

SUMMARY: The Commander, First Coast Guard District, has issued a temporary deviation from the regulation governing the operation of the Roosevelt Island Bridge across the East River, mile 6.4, at New York City, New York. Under this temporary deviation the bridge may remain in the closed position for three months to facilitate bridge maintenance. Vessels that can pass under the draw without a bridge opening may do so at all times.

DATES: This deviation is effective from April 15, 2009 through July 14, 2009.

ADDRESSES: Documents indicated in this preamble as being available in the docket are part of docket USCG-2009-0001 and are available online at http://www.regulations.gov. They are also available for inspection or copying at two locations: the Docket Management Facility (M-30), U.S. Department of Transportation, West Building Ground Floor, Room W12-140, 1200 New Jersey Avenue, SE., Washington, DC 20590, between 9 a.m. and 5 p.m., Monday through Friday, except Federal holidays, and the First Coast Guard District, Bridge Branch Office, 408 Atlantic Avenue, Boston, Massachusetts, 02110, between 7 a.m. and 3 p.m., Monday through Friday, except Federal holidays.

FOR FURTHER INFORMATION CONTACT: Joe Arca, Project Officer, First Coast Guard District, at (212) 668-7165.

SUPPLEMENTARY INFORMATION: The Roosevelt Island Bridge, across the East River, mile 3.1, at New York City, New York, has a vertical clearance in the closed position of 40 feet at mean high water and 47 feet at mean low water. The existing drawbridge operation regulations are listed at 33 CFR 117.781(c).

The East River at the bridge location is a secondary channel not normally used by the local seasonal recreational vessels, and commercial vessels that can transit around Roosevelt Island on the other side.

The owner of the bridge, New York City Department of Transportation, requested a temporary deviation to facilitate a major rehabilitation of the bridge.

Under this temporary deviation the Roosevelt Island Bridge may remain in the closed position from April 15, 2009 through July 14, 2009. Vessels that can pass under the bridge without a bridge opening may do so at all times.

In accordance with 33 CFR 117.35(e), the bridge must return to its regular operating schedule immediately at the end of the designated time period. This deviation from the operating regulations is authorized under 33 CFR 117.35.

Dated: March 6, 2009.
Gary Kassof,
Bridge Program Manager, First Coast Guard District.

[FR Doc. E9-5986 Filed 3-18-09; 8:45 am]

BILLING CODE 4910-15-P